DEPARTMENT OF THE INTERIOR

Bureau of Land Management

[LLCOS05000-L10100000. PH0000]

Notice of Public Meeting, Southwest Colorado Resource Advisory Council

AGENCY: Bureau of Land Management, Interior.

ACTION: Notice of public meeting

SUMMARY: In accordance with the Federal Land Policy and Management Act (FLPMA) and the Federal Advisory Committee Act of 1972 (FACA), the U.S. Department of the Interior, Bureau of Land Management (BLM) Southwest Colorado Resource Advisory Council (RAC) will meet in January, April and October 2012.

DATES: The Southwest Colorado RAC meetings will be held on January 27, 2012, in Ridgeway, Colorado; April 27, 2012, in Hotchkiss, Colorado; and October 26, 2012, in Dolores, Colorado.

ADDRESSES: The Southwest Colorado RAC meetings will be held January 27, 2012, at the Ouray County Fairgrounds 4-H Events Center at 22739 Highway 550, Ridgway, CO, 81432; April 27, 2012, at the Hotchkiss Memorial Hall, 174 N. First Street, Hotchkiss, CO, 81419; and October 26, 2012, at the Anasazi Heritage Center at 27501 Highway 184, Dolores, CO, 81323.The meetings will begin at 9 a.m. and adjourn at approximately 4 p.m. A public comment period regarding matters on the agenda will be held at 11:30 a.m.

FOR FURTHER INFORMATION CONTACT: Lori Armstrong, BLM Southwest District Manager, 2505 S. Townsend Avenue, Montrose, CO, 81401; telephone (970) 240-5300; or Shannon Borders, Public Affairs Specialist, 2505 S. Townsend Avenue, Montrose, CO, 81401; telephone (970)-240-5300.

SUPPLEMENTARY INFORMATION: The Southwest Colorado RAC advises the Secretary of the Interior, through the Bureau of Land Management, on a variety of public land issues in Colorado.

Topics of discussion for all Southwest Colorado RAC meetings may include field manager and working group reports, recreation, fire management, land use planning, invasive species management, energy and minerals management, travel management, wilderness, land exchange proposals, cultural resource management, and other issues as appropriate.

These meetings are open to the public. The public may present written comments to the RACs. Each formal RAC meeting will also have time, as identified above, allocated for hearing public comments. Depending on the number of persons wishing to comment and time available, the time for individual oral comments may be limited.

Dated: December 21, 2011.
John Mehlhoff,
Acting State Director.

[FR Doc. 2011-33393 Filed 12-28-11; 8:45 am]

BILLING CODE 4310-JB-P